NATIONAL AERONAUTICS AND SPACE ADMINISTRATION

[Notice 01-077]

Notice of Prospective Patent License

AGENCY: National Aeronautics and Space Administration.

ACTION: Notice of Prospective Patent License.

SUMMARY: NASA hereby gives notice that Thermosurgery Technologies, Inc., of Phoenix, AZ, has applied for an exclusive license to practice the inventions described and claimed in NASA Case No. MSC-23049-1, entitled “Transcatheter Microwave Antenna,” NASA Case No. MSC-23049-2, entitled “Method for Constructing a Microwave Antenna,” NASA Case No. MSC-23049-3, entitled “Method for Selective Thermal Ablation,” and NASA Case No. MSC-23049-4 respectively, entitled “Computer Program for Microwave Antenna,” which are assigned to the United States of America as represented by the Administrator of the National Aeronautics and Space Administration. Written objections to the prospective grant of a license should be sent to Johnson Space Center.

DATES: Responses to this notice must be received by August 17, 2001.

FOR FURTHER INFORMATION CONTACT: Hardie R. Barr, Patent Attorney, NASA Johnson Space Center, Mail Stop HA, Houston, TX 77058-8452; telephone (281) 483-1003.

Dated: June 11, 2001.
Edward A. Frankle,
General Counsel.

[FR Doc. 01-15206 Filed 6-15-01; 8:45 am]

BILLING CODE 7510-01-P